DEPARTMENT OF ENERGY

Federal Energy Regulatory Commission

[Docket No. AD23-6-000]

Notice of Intent To Update the Upland Erosion Control, Revegetation and Maintenance Plan and the Wetland and Waterbody Construction and Mitigation Procedures and Request for Comments

The staff of the Federal Energy Regulatory Commission (FERC or Commission) are reviewing the May 2013 Upland Erosion Control, Revegetation and Maintenance Plan (Plan) and Wetland and Waterbody Construction and Mitigation Procedures (Procedures) to determine if there are appropriate updates or improvements required at this time. Commission staff are asking for public input and suggestions for modifications to the Plan and Procedures from stakeholders and practitioners, including federal, state and local agencies, environmental consultants, inspectors, the natural gas industry, construction contractors, and other interested parties with special expertise with respect to environmental issues associated with natural gas pipeline projects. Please note that this comment period will close on May 9, 2023.

The Plan and Procedures are referred to at 18 Code of Federal Regulations (CFR) 380.12(i)(5) and 380.12(d)(2), respectively, as well as 18 CFR 157.206(b)(3)(iv). Full texts of the current versions of the Plan and Procedures can be viewed on the Federal Energy Regulatory Commission (FERC or Commission) website at https://www.ferc.gov/sites/default/files/2020-04/upland-erosion-control-revegetation-maintenance-plan.pdf and https://www.ferc.gov/sites/default/files/2020-04/wetland-waterbody-construction-mitigation-procedures.pdf, respectively.

Commission staff anticipate issuing draft changes to the Plan and Procedures in late 2023 and will make them available for public comment. Commission staff will then consider all timely comments on the drafts before issuing the final versions.

Interested parties can help determine the appropriate updates and improvements to make by providing comments or suggestions that focus on the specific sections requiring clarification, updates to reflect current laws and regulations, or improved measures to avoid or minimize environmental impacts. The more specific your comments, the more useful they will be. Commission staff also encourage commentors to include references for any scientific studies associated with their comments. Please note that the measures in the Plan and Procedures are primarily performance-based, so that they can be applied to pipeline projects throughout the entire country. Suggestions for prescriptive language or comments focused on one portion of the country will provide limited value.

There are three methods you can use to submit your comments to the Commission. The Commission encourages electronic filing of comments and has staff available to assist you at (866) 208-3676 or FercOnlineSupport@ferc.gov. Please carefully follow these instructions so that your comments are properly recorded.

(1) You can file your comments electronically using the eComment feature, which is located on the Commission's website (www.ferc.gov) under the link to FERC Online. Using eComment is an easy method for submitting brief, text-only comments;

(2) You can file your comments electronically by using the eFiling feature, which is located on the Commission's website (www.ferc.gov) under the link to FERC Online. With eFiling, you can provide comments in a variety of formats by attaching them as a file with your submission. New eFiling users must first create an account by clicking on “eRegister.” You will be asked to select the type of filing you are making; a comment on a particular project is considered a “Comment on a Filing”; or

(3) You can file a paper copy of your comments by mailing them to the Commission. Be sure to reference the docket number AD23-6-000 on your letter. Submissions sent via the U.S. Postal Service must be addressed to: Kimberly D. Bose, Secretary, Federal Energy Regulatory Commission, 888 First Street NE, Room 1A, Washington, DC 20426. Submissions sent via any other carrier must be addressed to: Kimberly D. Bose, Secretary, Federal Energy Regulatory Commission, 12225 Wilkins Avenue, Rockville, Maryland 20852.

All of the information related to the proposed updates to the Plan and Procedures and submitted comments can be found on the FERC website (www.ferc.gov) using the eLibrary link. Click on the eLibrary link, confirm that “General Search” is selected, and enter the docket number, excluding the last three digits in the Docket Number field (i.e., AD23-6). Be sure you have selected an appropriate date range. For assistance, please contact FERC Online Support at FercOnlineSupport@ferc.gov or toll free at (866) 208-3676, or for TTY, contact (202) 502-8659. The eLibrary link also provides access to the texts of formal documents issued by the Commission, such as orders, notices, and rulemakings.

Additionally, the Commission offers a free service called eSubscription. This service provides autotomatic notification of filings made to subscribed dockets, document summaries, and direct links to documents. Go to https://ferconline.ferc.gov/Login.aspx to register for eSubscription.

Dated: March 10, 2023.
Debbie-Anne A. Reese,
Deputy Secretary.

[FR Doc. 2023-05420 Filed 3-16-23; 8:45 am]

BILLING CODE 6717-01-P